DEPARTMENT OF TRANSPORTATION

Federal Aviation Administration

14 CFR Part 39

[Docket No. 2001-SW-04-AD; Amendment 39-12271; AD 2001-12-16]

RIN 2120-AA64

Airworthiness Directives; Eurocopter France Model AS332L2 Helicopters

AGENCY: Federal Aviation Administration, DOT.

ACTION: Final rule; request for comments.

SUMMARY: This amendment adopts a new airworthiness directive (AD) for Eurocopter France Model AS332L2 helicopters. This AD requires, at specified time intervals, visually inspecting the main rotor blade sleeve yoke (sleeve) for cracks, corrosion, fretting, or bonding separation; the bearing surface of the metal bushing (bushing) for fretting or cracks; and the sleeve-to-damper attachment bolt (bolt) for corrosion and deterioration of the fluorimid varnish coating. Replacing any cracked or nonairworthy sleeve, bushing, or bolt is also required before further flight. This AD is prompted by the discovery of extensive deterioration of the fluorimid varnish coating on the bolt; cracks in the bushing; and fretting and corrosion of the sleeve. The actions specified in this AD are intended to detect corrosion and cracks in the yoke, which could result in separation of the blade damper assembly and subsequent loss of control of the helicopter.

DATES: Effective July 12, 2001.

The incorporation by reference of certain publications listed in the regulations is approved by the Director of the Federal Register as of July 12, 2001.

Comments for inclusion in the Rules Docket must be received on or before August 27, 2001.

ADDRESSES: Submit comments in triplicate to the Federal Aviation Administration (FAA), Office of the Regional Counsel, Southwest Region, Attention: Rules Docket No. 2001-SW-04-AD, 2601 Meacham Blvd., Room 663, Fort Worth, Texas 76137. You may also send comments electronically to the Rules Docket at the following address: 9-asw-adcomments@faa.gov.

The service information referenced in this AD may be obtained from American Eurocopter Corporation, 2701 Forum Drive, Grand Prairie, Texas 75053-4005, telephone (972) 641-3460, fax (972) 641-3527. This information may be examined at the FAA, Office of the Regional Counsel, Southwest Region, Room 663, Fort Worth, Texas; or at the Office of the Federal Register, 800 North Capitol Street, NW., suite 700, Washington, DC.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION: The Direction Générale de L'Aviation Civile (DGAC), which is the airworthiness authority for France, notified the FAA that an unsafe condition may exist on Eurocopter France Model AS332L2 helicopters. The DGAC advises that cracks in the yokes of the damper attachment sleeves may result in loss of the damper attachment and the occurrence of vibrations, leading to loss of control of the helicopter.

Eurocopter issued Eurocopter Service Bulletin No. 05.00.53, Revision 1, dated July 6, 1999, which specifies checking the sleeve yoke for cracks and the damper attachment for damage. The DGAC classified this service bulletin as mandatory and issued AD No. 1999-260-014(A) R1, dated July 13, 1999, to ensure the continued airworthiness of these helicopters in France.

This helicopter model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

None of the Eurocopter France Model AS332L2 helicopters affected by this AD are on the U.S. Register. All helicopters included in the applicability of this AD are currently operated by non-U.S. operators under foreign registry; therefore, they are not directly affected by this AD action. However, the FAA considers that this rule is necessary to ensure that the unsafe condition is addressed in the event that any of these subject helicopters are imported and placed on the U.S. Register in the future.

Should an affected helicopter be imported and placed on the U.S. Register in the future, it will require approximately 1 work hour per helicopter to inspect the sleeve, and either 10 work hours per helicopter to remove, inspect, and reinstall the current damper attachment bolt and bushing or 10 work hours to remove, inspect, and install a replacement damper attachment bolt and bushing or the sleeve if the current parts are damaged. The average labor rate is $60 per work hour. Required parts will cost approximately $54,549 per blade ($54,305 for a sleeve and $244 for a bolt). Based on these figures, the total cost impact of the AD on U.S. operators is estimated to be $55,209 for each helicopter, assuming each imported helicopter would require one new sleeve and one new bolt and bushing.

The FAA has identified an unsafe condition that is likely to exist or develop on other Eurocopter France Model AS332L2 helicopters of the same type design, which may become registered in the United States. This AD is being issued to detect corrosion and cracks in the sleeve, which could result in separation of the blade damper assembly and subsequent loss of control of the helicopter. This AD requires, at specified time intervals, visually inspecting the sleeve for cracks, corrosion, fretting, or bonding separation; the bearing surface of the bushing for fretting or cracks; and the bolt for corrosion and deterioration of the fluorimid varnish coating. Replacing any cracked or non-airworthy sleeve, bushing, or bolt would also be required before further flight. The actions must be accomplished in accordance with the service bulletin described previously.

Since this AD action does not affect any helicopter that is currently on the U.S. register, it has no adverse economic impact and imposes no additional burden on any person. Therefore, notice and public procedures hereon are unnecessary, and the amendment may be made effective in less than 30 days after publication in the Federal Register.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-04-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that notice and prior public comment are unnecessary in promulgating this regulation; therefore, it can be issued immediately to correct an unsafe condition in aircraft since none of these model helicopters are registered in the United States. The FAA has also determined that this regulation is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-12-16 Eurocopter France: Amendment 39-12271. Docket No. 2001-SW-04-AD.

Applicability: Model AS332L2 helicopters, with main rotor hub sleeve, part number (P/N) 332A31-1860-03 or -04, and sleeve-to-drag damper attachment bolt, P/N 332A31-1961-20, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To detect corrosion on a sleeve-to-blade damper attachment bolt (bolt) or a crack on the main rotor blade sleeve yoke (sleeve) and to prevent failure of the damper attachment and subsequent loss of control of the helicopter, accomplish the following:

(a) For sleeves with 175 or less hours time-in-service (TIS), before accumulating 275 hours TIS, and thereafter at intervals not to exceed 275 hours TIS, remove the sleeve-to-blade-damper assembly in accordance with paragraph 2.B.2 of the Accomplishment Instructions in Eurocopter Service Bulletin No. 05.00.53, Revision 1, dated July 6, 1999 (SB), and inspect in accordance with paragraphs 2.B.2.1, 2.B.2.2, and 2.B.2.3 of the SB. Returning a sleeve to the manufacturer is not required by this AD. Replace any unairworthy part before further flight.

(b) For sleeves with more than 175 hours TIS that have not complied with paragraph (a) of this AD, before the first flight of each day, visually inspect the sleeve for a crack in accordance with paragraph 2.B.1 of the SB. Replace any cracked sleeve with an airworthy sleeve before further flight. Within the next 100 hours TIS and thereafter at intervals not to exceed 275 hours TIS, remove the sleeve-to-blade-damper assembly in accordance with paragraph 2.B.2 of the SB, and inspect in accordance with paragraphs 2.B.2.1, 2.B.2.2, and 2.B.2.3 of the SB. Returning a sleeve to the manufacturer is not required by this AD. Replace any unairworthy part before further flight.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(d) Special flight permits may be issued in accordance with sections 21.197 and 21.199 of the Federal Aviation Regulations (14 CFR 21.197 and 21.199) to operate the helicopter to a location where the requirements of this AD can be accomplished.

(e) Removing the sleeve-to-blade damper assembly and inspecting the sleeve shall be done in accordance with the Accomplishment Instructions, paragraphs 2.B.1, 2.B.2, 2.B.2.1, 2.B.2.2, and 2.B.2.3, of Eurocopter Mandatory Service bulletin No. 05.00.53, Revision 1, dated July 6, 1999. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. This information may be examined at the FAA, Office of the Regional Counsel, Southwest Region, Room 663, Fort Worth, Texas; or at the Office of the Federal Register, 800 North Capitol Street, NW., suite 700, Washington, DC. Copies may be inspected at the FAA, Office of the Regional Counsel, Southwest Region, 2601 Meacham Blvd., Room 663, Fort Worth, Texas; or at the Office of the Federal Register, 800 North Capitol Street, NW., suite 700, Washington, DC.

(f) This amendment becomes effective on July 12, 2001.

Note 3: The subject of this AD is addressed in Direction Générale de L'Aviation Civile (France) AD No. 1999-260-014(A) R1, dated July 13, 1999.

Issued in Fort Worth, Texas, on June 8, 2001.
Eric Bries,
Acting Manager, Rotorcraft Directorate, Aircraft Certification Service.

[FR Doc. 01-15792 Filed 6-26-01; 8:45 am]

BILLING CODE 4910-13-U